DEPARTMENT OF TRANSPORTATION

Federal Railroad Administration

[Docket Number FRA-2006-23687]

Notice of Informational Filing

For informational purposes only, the Federal Railroad Administration (FRA) is providing notice that it has received an informational filing from BNSF Railway Company (BNSF) to test the next version of the railroad's Electronic Train Management System (ETMS) submitted pursuant to Title 49 Code of Federal Regulations (CFR) part 236.913. The informational filing is described below, including the submitting party and the requisite docket number where the informational filing and any related information may be found. The document is also available for public inspection; however, FRA is not accepting public comment on the document.

BNSF Railway Company (BNSF)

[Docket Number FRA-2006-23687]

BNSF has submitted an informational filing to FRA to continue operational testing of the next version of the railroad's ETMS. This continued testing will allow BNSF to obtain the necessary information required to amend its current Product Safety Plan (PSP) for a future submittal to the FRA. The informational filing has been placed in the Docket Number FRA-2006-23687, and is available for public inspection.

All documents in the public docket are available for examination during regular business hours (9 a.m.-5 p.m.) at the DOT Central Docket Management Facility, Room Pl-401 (Plaza Level), 400 Seventh Street, SW., Washington, DC. All documents in the public docket are also available for inspection and copying on the Internet at the docket facility's Web site at http://dms.dot.gov.

You may review DOT's complete Privacy Act Statement in the Federal Register published on April 11, 2000 (Volume 65, Number 70; Pages 19477-78). The Statement may also be found at http://dms.dot.gov.

Issued in Washington, DC, on April 9, 2007.
Grady C. Cothen, Jr.,
Deputy Associate Administrator for Safety Standards and Program Development.

[FR Doc. E7-7077 Filed 4-12-07; 8:45 am]

BILLING CODE 4910-06-P